INTERNATIONAL TRADE COMMISSION

[USITC SE-03-025]

Sunshine Act Meeting

AGENCY HOLDING THE MEETING: United States International Trade Commission.

TIME AND DATE: August 5, 2003 at 10 a.m.

PLACE: Room 101, 500 E Street, SW., Washington, DC 20436, Telephone: (202) 205-2000.

STATUS: Open to the public.

MATTERS TO BE CONSIDERED: 1. Agenda for future meetings: none.

2. Minutes.

3. Ratification List.

4. Inv. No. TA-421-3 (Market Disruption) (Certain Brake Drums and Rotors from China)—briefing and vote. (The Commission is currently scheduled to transmit its determination to the President and United States Trade Representative on August 5, 2003; Commissioners' opinions and recommendations on remedy, if necessary, are currently scheduled to be transmitted to the President and United States Trade Representative on or before August 25, 2003.)

5. Inv. No. 731-TA-1046 (Preliminary) (Tetrahydrofurfuryl Alcohol from China)—briefing and vote. (The Commission is currently scheduled to transmit its determination to the Secretary of Commerce on or before August 7, 2003; Commissioners' opinions are currently scheduled to be transmitted to the Secretary of Commerce on or before August 14, 2003.)

6. Outstanding action jackets: none.

In accordance with Commission policy, subject matter listed above, not disposed of at the scheduled meeting, may be carried over to the agenda of the following meeting.

Issued: July 24, 2003.
By order of the Commission.
Marilyn R. Abbott,
Secretary to the Commission.

[FR Doc. 03-19325 Filed 7-25-03; 11:18 am]

BILLING CODE 7020-02-P